NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before May 29, 2003. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-837-3698 or by e-mail to records.mgt@nara.gov. Requesters must cite the control number, which appears in parentheses after the name of the agency which submitted the schedule, and must provide a mailing address. Those who desire appraisal reports should so indicate in their request.

FOR FURTHER INFORMATION CONTACT: Paul M. Wester, Jr., Director, Life Cycle Management Division (NWML), National Archives and Records Administration, 8601 Adelphi Road, College Park, MD 20740-6001. Telephone: 301-837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Animal and Plant Health Inspection Service (N1-463-03-1, 4 items, 4 temporary items). User fee records, including forms and background documents. Also included are electronic copies of records created using electronic mail and word processing that are associated with all record series in the Fiscal Affairs category of the agency's records disposition schedule.

2. Department of the Air Force, Agency-wide (N1-AFU-03-4, 2 items, 2 temporary items). Duplicate copies of time and attendance sheets pertaining to Air Reserve Technicians. Also included are electronic copies of records created using electronic mail and word processing.

3. Department of the Air Force, Agency-wide (N1-AFU-03-5, 2 items, 2 temporary items). Biographical records on personnel used in public affairs programs. Records include information concerning individual service members such as name, current rank, marital status, and local address. Also included are electronic copies of records created using electronic mail and word processing.

4. Department of Defense, Defense Finance and Accounting Service (N1-507-02-1, 93 items, 93 temporary items). Records relating to payroll and other financial transactions, safety and hazardous materials, security, personnel, property, planning, publications and forms, Congressional inquiries, audiovisual activities, and various administrative matters. Included are such records as employee pay records, central procurement accounting system records, government purchase card records, safety program planning records, accident reports, records of fire prevention inspections, hazardous material management and training records, industrial hygiene and occupational health surveys, pollution prevention plans and data, reports on security investigations of personnel, audiovisual productions not relating to the agency's mission, and case files pertaining to coordination of Department of Defense issuances. Also included are electronic copies of documents created using electronic mail and word processing.

5. Department of Defense, National Imagery and Mapping Agency (N1-537-03-9, 16 items, 16 temporary items). Records relating to the production of nautical charts and publications. Records pertain to such matters as the measurement and description of the physical features and attributes of bodies of water and their adjoining coastal areas and the preparation and evaluation of maritime safety information. Also included are electronic copies of records created using electronic mail and word processing. This schedule authorizes the agency to apply the proposed disposition instructions to any recordkeeping medium.

6. Department of Defense, National Imagery and Mapping Agency (N1-537-03-13, 11 items, 9 temporary items). Records relating to the general management and evolution of geospatial policy and arrangements, including such matters as classification decisions and security policy regarding the disclosure and release of geospatial data and products. Also included are electronic copies of records created using electronic mail and word processing. Records proposed for permanent retention include recordkeeping copies of files pertaining to international and interagency arrangements and to geospatial policy. This schedule authorizes the agency to apply the proposed disposition instructions to any recordkeeping medium.

7. Department of Defense, National Imagery and Mapping Agency (N1-537-03-14, 19 items, 19 temporary items). Distribution and storage files pertaining to maps, charts, and other cartographic products produced by the agency. Records relate to such subjects as inspections of stored items, stock levels, and requisitions. Also included are electronic copies of records created using electronic mail and word processing. This schedule authorizes the agency to apply the proposed disposition instructions to any recordkeeping medium.

8. Department of Health and Human Services, Food and Drug Administration (N1-88-03-3, 3 items, 3 temporary items). Case files relating to seizures and prosecutions involving agency-approved products. Included are such records as copies of labels, promotional materials, seizure and analytical reports, notices of hearings, and additional prosecution records. Also included are electronic copies of records created using electronic mail and word processing.

9. Department of Homeland Security, Directorate of Border and Transportation Security (N1-563-03-1, 5 items, 2 temporary items). Inputs and outputs of an electronic system relating to immigration enforcement activities. The complete master file and a public use version are proposed for permanent retention along with the related system documentation.

10. Department of Justice, Justice Management Division (N1-60-03-2, 5 items, 4 temporary items). Input reports submitted by agency components and other supporting documentation created in connection with producing the agency's annual Performance and Accountability Report, which includes such materials as consolidated financial statements and the annual performance report required by the Government Performance and Results Act. Also included are electronic copies of documents created using electronic mail and word processing. Recordkeeping copies of the report are proposed for permanent retention.

11. Department of Justice, Drug Enforcement Administration (N1-170-03-4, 3 items, 3 temporary items. Records relating to the content and management of the agency's Web site, including electronic copies of records created using electronic mail and word processing.

12. Department of Labor, Officer of the Solicitor (N1-174-02-02, 62 items, 57 temporary items). Records relating to litigation, advice and opinions, and office administration. Included are such records as legal advice and opinion files and legislative case files lacking historical significance, copies of rulemaking records, recommendations to file appeals or amicus briefs, Freedom of Information Act reports, and electronic systems used to track office software and resource allocation for cases. Also included are electronic copies of records created using electronic mail and word processing. Proposed for permanent retention are recordkeeping copies of such records as significant advice and opinion files, significant litigation case files, directives, and speeches and congressional testimony.

13. Department of Transportation, Research and Special Programs Administration (N1-467-01-2, 20 items, 14 temporary items). Records of the Office of the Associate Administrator for Innovation, Research and Education, including such records as grant files, copies of publications, and web site records. Also included are electronic copies of records created using word processing and electronic mail. Recordkeeping copies of research reports from institutions receiving grants, committee records, and publications are proposed for permanent retention.

14. Small Business Administration, Office of Business Development (N1-309-03-04, 12 items, 10 temporary items). Inputs, outputs, and back up files of an electronic records system used for monitoring the status of small businesses owned by economically and socially disadvantaged individuals. Also included are electronic copies of documents created using electronic mail and word processing. Master files and system documentation are proposed as permanent.

Dated: April 7, 2003.
Michael J. Kurtz,
Assistant Archivist for Record Services—Washington, DC.

[FR Doc. 03-8974 Filed 4-11-03; 8:45 am]

BILLING CODE 7515-01-P